DEPARTMENT OF TRANSPORTATION

Federal Aviation Administration

Notice of Intent To Rule on Request To Release Airport Property at the Seattle-Tacoma International Airport, Seattle, Washington

AGENCY: Federal Aviation Administration (FAA), DOT.

ACTION: Notice of request to release airport property.

SUMMARY: The FAA proposes to rule and invite public comment on the release of land at the Seattle-Tacoma International Airport under the provisions of Section 125 of the Wendell H. Ford Aviation Investment Reform Act for the 21st Century (AIR 21), now 49 U.S.C. 47107(h)(2).

DATES: Comments must be received on or before November 23, 2012.

ADDRESSES: Comments on this application may be mailed or delivered to the FAA at the following address: Ms. Carol Suomi, Manager, Federal Aviation Administration, Northwest Mountain Region, Airports Division, Seattle Airports District Office, 1601 Lind Avenue SW., Suite 250, Renton, Washington 98057-3356.

In addition, one copy of any comments submitted to the FAA must be mailed or delivered to Mr. Allan Royal, Port of Seattle Real Estate Development, at the following address: Mr. Allan Royal, Port of Seattle Real Estate Development, P.O. Box 68727, Seattle, Washington, 98168.

FOR FURTHER INFORMATION CONTACT: Mr. Peter Doyle, Project Manager, Federal Aviation Administration, Northwest Mountain Region, Seattle Airports District Office, 1601 Lind Avenue SW., Suite 250, Renton, Washington 98057-3356.

The request to release property may be reviewed, by appointment, in person at this same location.

SUPPLEMENTARY INFORMATION: The FAA invites public comment on the request to release property at the Seattle-Tacoma International Airport under the provisions of the AIR 21 (49 U.S.C. 47107(h)(2)).

On August 28, 2012, the FAA determined that the request to release property at Seattle-Tacoma International Airport submitted by the airport meets the procedural requirements of the Federal Aviation Administration. The FAA may approve the request, in whole or in part, no later than November 23, 2012.

The following is a brief overview of the request:

The Seattle-Tacoma International Airport is proposing the release of approximately 40,418 square feet of airport property to Sound Transit for expansion of the Link Light Rail. This property is needed to facilitate the next phase of development which will extend the light rail line 1.6 miles from the airport station to South 200th Street in the City of SeaTac, WA. The revenue made from this sale will be used toward an approved noise compatibility project, or an eligible project under the Airport Improvement Program.

Any person may inspect, by appointment, the request in person at the FAA office listed above under FOR FURTHER INFORMATION CONTACT.

In addition, any person may, upon appointment and request, inspect the application, notice and other documents germane to the application in person at the Seattle-Tacoma International Airport, 17801 International Blvd., Seattle, Washington 98158.

Issued in Renton, Washington on September 26, 2012.
Carol Suomi,
Manager, Seattle Airports District Office.

[FR Doc. 2012-26005 Filed 10-22-12; 8:45 am]

BILLING CODE M